DEPARTMENT OF THE INTERIOR

Geological Survey

[GX20DK40GUK0100; OMB Control Number 1028-0097 Renewal]

Agency Information Collection Activities; Submission to the Office of Management and Budget for Review and Approval; State Water Resources Research Institute Program Annual Application, National Competitive Grants, and Reporting

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before December 2, 2019.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive MS 159, Reston, VA 20192; or by email to gs-info_collections@usgs.gov. Please reference OMB Control Number 1028-0097 in the subject line of your comments.

FOR FURTHER INFORMATION CONTACT: To request additional information about this ICR, contact Earl Greene by email at eagreene@usgs.gov or by telephone at 571-332-4184. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 5, 2019 (84 FR 38039). No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The U.S. Geological Survey (USGS) Water Resources Research Act (WRRA) program issues an annual announcement to solicit applications for the noncompetitive State Water Resources Research Program annual grants authorized by section 104(c) and for the national competitive grant program authorized by section 104(g) of the Water Resources Research Act of 1984 (Pub. L. 98-242), as amended [42 U.S.C. 10303(c)].

Annual grants (104c) may contain research and information transfer projects as well as an administration project describing the Institute's overall administration and objectives. The research projects are generally selected in a competitive statewide solicitation, peer review, and selection process designed and conducted by each Institute. National competitive grants (104g) will focus on water problems and issues of a regional or interstate nature beyond those of concern only to a single state and which relate to specific program priorities identified jointly by the Secretary (of the Interior) and the Institutes.

The State Water Resources Research Institutes were established under Section 104(a) of the Act [42 U.S.C. 10303(a)]. There are 54 Water Resources Research Institutes, one in each state, the District of Columbia, Puerto Rico, the U.S. Virgin Islands, and Guam. The Institutes are organized as the National Institutes for Water Resources (NIWR). The NIWR cooperates with the USGS in establishing total programmatic direction, reporting on the activities of the Institutes, coordinating and facilitating regional research, and information and technology transfer.

Title of Collection: State Water Resources Research Institute Program Annual Application, National Competitive Grants, and Reporting.

OMB Control Number: 1028-0097.

Form Number: None.

Type of Review: Extension of a currently approved collection.

Respondents/Affected Public: Universities.

Total Estimated Number of Annual Respondents: 54.

Total Estimated Number of Annual Responses: 173.

Estimated Completion Time per Response: 180 hours.

Total Estimated Number of Annual Burden Hours: 10,160 hours.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq).

Earl Greene,
USGS, Program Coordinator, Water Resources Research Act.

[FR Doc. 2019-23774 Filed 10-30-19; 8:45 am]

BILLING CODE 4338-11-P